SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before January 23, 2019.

ADDRESSES: Send all comments to Brittany Sickler, FAST Program Manager, Office of Investment and Innovation, Small Business Administration, 409 3rd Street, 6th Floor, Washington, DC 20416.

FOR FURTHER INFORMATION CONTACT: Brittany Sickler, FAST Program Manager, Office of Investment and Innovation, Small Business Administration, FAST@sba.gov, 202-710-5163, or Curtis B. Rich, Management Analyst, 202-205-7030, curtis.rich@sba.gov.

SUPPLEMENTARY INFORMATION: The Federal and State Technology Partnership (FAST) Program is a competitive grants program designed to strengthen the technological competitiveness of small businesses seeking funding from the Small Business Innovation Research (SBIR) and Small Business Technology Transfer (STTR) programs. Congress established the FAST Program under the Consolidated Appropriations Act of 2001, codified at 15 U.S.C. 657d(c). The program expired on September 30, 2005 and was reestablished under the Consolidated Appropriations Act of 2010.

FAST provides funding to organizations to execute state/regional programs that increase the number of SBIR/STTR proposals (through outreach and financial support); increase the number of SBIR/STTR awards (through technical assistance and mentoring); and better prepare SBIR/STTR awardees for commercialization success (through technical assistance and mentoring).

The FAST Quarterly Reporting Form will collect data from FAST award recipients which will be used to improve program performance. The Quarterly Reports will collect ongoing performance and outcome data from FAST awardees on a required, quarterly basis. As well as improving program management, the data collected will inform the Annual Reports to the Senate Committee on Small Business & Entrepreneurship; the Senate Committee on Commerce, Science, and Transportation; the House Committee on Science, Space, and Technology; and the House Committee on Small Business, as required in the Small Business Act 34(c)(1)(2).

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: FAST Program Quarterly Reporting Form.

Description of Respondents: FAST award recipients, including Small Business and Technology Development Centers (SBTDCs), state and local economic development agencies, and other FAST award recipients.

Form Number: N/A.

Total Estimated Annual Responses: 96.

Total Estimated Annual Hour Burden: 192 hours.

Curtis Rich,
Management Analyst.

[FR Doc. 2018-26154 Filed 11-30-18; 8:45 am]

BILLING CODE P